DEPARTMENT OF AGRICULTURE

U.S. Codex Office

Codex Alimentarius Commission: Meeting of the Codex Committee on Spices and Culinary Herbs

AGENCY: U.S. Codex Office, USDA.

ACTION: Notice of public meeting and request for comments.

SUMMARY: The U.S Codex Office is sponsoring a public meeting on March 29, 2021. The objective of the public meeting is to provide information and receive public comments on agenda items and draft United States (U.S.) positions to be discussed at the 5th Session of the Codex Committee on Spices and Culinary Herbs (CCSCH) of the Codex Alimentarius Commission, which will convene virtually April 26-30, 2021. The U.S. Manager for Codex Alimentarius and the Acting Under Secretary for Trade and Foreign Agricultural Affairs recognize the importance of providing interested parties the opportunity to obtain background information on the 5th Session of the CCSCH and to address items on the agenda.

DATES: The public meeting is scheduled for March 29, 2021 from 1:00 p.m. to 3:00 p.m. EST.

ADDRESSES: The public meeting will take place via Video Teleconference hosted by the U.S. Codex Office. Documents related to the 5th Session of the CCSCH will be accessible via the internet at the following address: http://www.fao.org/fao-who-codexalimentarius/meetings/detail/en/?meeting=CCSCH&session=5.

Mr. Dorian A. LaFond, U.S. Delegate to the 5th Session of the CCSCH, invites U.S. interested parties to submit their comments electronically to the following email address: dorian.lafond@usda.gov.

Registration: Attendees may register to attend the virtual public meeting here: https://www.zoomgov.com/meeting/register/vJIsce2grDIjHgR59gdd1YczP24oxfgwbvQ or by emailing Ms. Heather Selig (heather.selig@usda.gov) by March 15, 2021.

For Further Information about the 5th Session of the CCSCH, contact the U.S. Delegate, Mr. Dorian A. LaFond, International Standards Coordinator for the Agricultural Marketing Service Specialty Crops Program, Specialty Crops Inspection Division at Stop 0247, 1400 Independence Avenue SW, Washington, DC 20250-0247, Tel: 202-690-4944, Cell: 202-577-5583, Fax: 202-720-0016 or Email: dorian.lafond@usda.gov.

For Further Information about the Public Meeting Contact: U.S. Codex Office, 1400 Independence Avenue SW, Room 4861, South Agriculture Building, Washington, DC 20250, Phone: 202-720-7760, Fax: 202-720-3157, Email: uscodex@usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Spices and Culinary Herbs (CCSCH) are:

(a) To elaborate worldwide standards for spices and culinary herbs in their dried and dehydrated state in whole, ground, and cracked or crushed form; and

(b) To consult, as necessary, with other international organizations in the standards development process to avoid duplication.

The CCSCH is hosted by India. The United States attends CCSCH as a member country of Codex.

Issues To Be Discussed at the Public Meeting

The following items on the Agenda for the 5th Session of the CCSCH will be discussed during the public meeting:

• Matters Referred by the Codex Alimentarius Commission and its Subsidiary Bodies

• Dried Oregano

• Draft Standard for Dried Oregano

• Dried Roots, Rhizomes, and Bulbs

• Draft Standard for Dried or Dehydrated Ginger

• Dried Floral Parts

• Draft Standard for Dried Cloves

• Draft Standard for Saffron

• Dried Herbs

• Draft Standard for Dried Basil

• Dried Fruits and Berries

• Proposed Draft Standard for Dried Chilli Peppers and Paprika

• Dried Seeds

• Proposed Draft Standard for Dried Nutmeg

• New Work and Layout for SCH Standards

• Consideration of the Proposals for New Work

• Update to the Template for SCH Standards

• Other Business Related to CCSCH

Public Meeting

At the March 29, 2021 public meeting, the draft U.S. positions on the agenda items will be described and discussed, and attendees will have the opportunity to pose questions and offer comments. Written comments may be offered at the meeting or sent to Mr. Dorian A. LaFond, U.S. Delegate for the 5th Session of the CCSCH (see ADDRESSES). Written comments should state that they relate to the activities of the 5th Session of the CCSCH.

Additional Public Notification

Public awareness of all segments of rulemaking and policy development is important. Consequently, the U.S. Codex Office will announce this Federal Register publication on-line through the USDA web page located at: http://www.usda.gov/codex/, a link that also offers an email subscription service that provides access to information related to Codex. Customers can modify their subscriptions and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (braille, large print, audiotape, etc.) should contact USDA's TARGET Center at (202) 720-2600 (voice and TDD).

Done at Washington, DC, on February 3, 2021.
Mary Lowe,
U.S. Manager for Codex Alimentarius.

[FR Doc. 2021-02701 Filed 2-9-21; 8:45 am]

BILLING CODE P